DEPARTMENT OF COMMERCE

Foreign-Trade Zones Board

[Order No. 1285]

Approval for Expanded Manufacturing Authority (20-inch TV/VCR and TV/DVD Player Combination Units) Within Foreign-Trade Subzone 86E Matsushita Kotobuki Electronics Industries of America, Inc.; Vancouver, WA

Pursuant to its authority under the Foreign-Trade Zones Act of June 18, 1934, as amended (19 U.S.C. 81a-81u), the Foreign-Trade Zones Board (the Board) adopts the following Order:

Whereas, Matsushita Kotobuki Electronics Industries of America, Inc. (MKA), operator of Foreign-Trade Subzone 86E, has applied to expand the scope of manufacturing authority under zone procedures within Subzone 86E, at the MKA plant located at sites in Vancouver, Washington, to include additional finished products (20-inch TV/VCR and TV/DVD player combination units) (FTZ Doc. 31-2002; filed 8-12-2002);

Whereas, notice inviting public comment was given in the Federal Register (67 FR 54168, 8-21-2002); and,

Whereas, the Board adopts the findings and recommendations of the examiner's report, and finds that the requirements of the FTZ Act and Board's regulations are satisfied, and that approval of the application is in the public interest; Now, therefore, the Board hereby approves the request subject to the FTZ Act and the Board's regulations, including Section 400.28.

Signed at Washington, DC, this 21st day of August 2003.
Jeffrey May,
Acting Assistant Secretary of Commerce for Import Administration, Alternate Chairman, Foreign-Trade Zones Board.

[FR Doc. 03-22442 Filed 9-2-03; 8:45 am]

BILLING CODE 3510-DS-P